DEPARTMENT OF TRANSPORTATION

Federal Aviation Administration

14 CFR Part 39

[Docket No. 2003-SW-29-AD]

RIN 2120-AA64

Airworthiness Directives; Eurocopter France Model EC 130 B4 and AS 350 B3 Helicopters

AGENCY: Federal Aviation Administration, DOT.

ACTION: Notice of proposed rulemaking (NPRM).

SUMMARY: This document proposes adopting a new airworthiness directive (AD) for the specified Eurocopter France (Eurocopter) model helicopters. This proposal would require inspecting the fuel transfer line and air exhaust duct for chafing, inspecting the air exhaust duct for a hole, and if necessary, repositioning the air exhaust duct to achieve the minimum clearances. This proposal is prompted by a report of damage to the fuel transfer line due to wear associated with vibrations and chafing of the fuel transfer line and the air exhaust duct. The actions specified by this proposed AD are intended to detect chafing wear of the air exhaust duct and the fuel transfer line, which could result in a hole in the fuel transfer line, fuel leaking into the engine compartment and creating a fire hazard that could lead to a fire and a subsequent forced landing.

DATES: Comments must be received on or before March 8, 2004.

ADDRESSES: Submit comments in triplicate to the Federal Aviation Administration (FAA), Office of the Regional Counsel, Southwest Region, Attention: Rules Docket No. 2003-SW-29-AD, 2601 Meacham Blvd., Room 663, Fort Worth, Texas 76137. You may also send comments electronically to the Rules Docket at the following address: 9-asw-adcomments@faa.gov. Comments may be inspected at the Office of the Regional Counsel between 9 a.m. and 3 p.m., Monday through Friday, except Federal holidays.

FOR FURTHER INFORMATION CONTACT: Ed Cuevas, Aviation Safety Engineer, FAA, Rotorcraft Directorate, Safety Management Group, Fort Worth, Texas 76193-0111, telephone (817) 222-5355, fax (817) 222-5961.

SUPPLEMENTARY INFORMATION:

Comments Invited

Interested persons are invited to participate in the making of the proposed rule by submitting such written data, views, or arguments as they may desire. Communications should identify the Rules Docket number and be submitted in triplicate to the address specified above. All communications received on or before the closing date for comments will be considered before taking action on the proposed rule. The proposals contained in this document may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their mailed comments submitted in response to this proposal must submit a self-addressed, stamped postcard on which the following statement is made: “Comments to Docket No. 2003-SW-29-AD.” The postcard will be date stamped and returned to the commenter.

Discussion

The Direction Generale De L'Aviation Civile (DGAC), the airworthiness authority for France, notified the FAA that an unsafe condition may exist on Eurocopter Model EC 130 B4 and AS 350 B3 helicopters. The DGAC advises of receiving a report of damage to the fuel transfer line due to interference associated with vibrations and chafing of the bleed valve air exhaust duct.

Eurocopter has issued Alert Service Bulletin (ASB) No. 71A001 for Model EC 130 B4 helicopters and ASB No. 71.00.16 for Model AS 350 B3 helicopters, both of which specify checks for interference between the bleed valve air exhaust duct and the engine fuel line. Both ASBs are dated May 12, 2003. The DGAC classified these ASBs as mandatory and issued ADs No. 2003-208(A) and 2003-209(A), both dated May 28, 2003, to ensure the continued airworthiness of these helicopters in France.

These helicopter models are manufactured in France and are type certificated for operation in the United States under the provisions of 14 CFR 21.29 and the applicable bilateral agreement. Pursuant to the applicable bilateral agreement, the DGAC has kept the FAA informed of the situation described above. The FAA has examined the findings of the DGAC, reviewed all available information, and determined that AD action is necessary for products of these type designs that are certificated for operation in the United States.

This previously described unsafe condition is likely to exist or develop on other helicopters of the same type design registered in the United States. Therefore, the proposed AD would require inspecting the fuel transfer line and air exhaust duct for chafing, and if necessary, repositioning the air exhaust duct to achieve at least 20 mm (0.8 in) of clearance in interference Area A and 12 mm (0.5 in) of clearance in interference Area B as depicted in Figure 1 of the Eurocopter Alert Service Bulletin. These are one-time inspections. The actions would be required to be accomplished in accordance with the ASBs described previously.

On July 10, 2002, the FAA issued a new version of 14 CFR part 39 (67 FR 47997, July 22, 2002), which governs the FAA's AD system. The regulation now includes material that relates to altered products, special flight permits, and alternative methods of compliance. Because we have now included this material in part 39, we no longer need to include it in each individual AD.

The FAA estimates that this proposed AD would affect 100 helicopters of U.S. registry and the proposed inspection would take approximately 0.5 work hour per helicopter to accomplish and 1 work hour to replace either the fuel transfer line or the air exhaust duct at an average labor rate of $65 per work hour. Cost of replacement parts, if needed, would be $817 for the fuel transfer line and $522 for the air exhaust duct. Based on these figures, we estimate the total cost impact of the proposed AD on U.S. operators to be $6,188, assuming 2 fuel transfer lines and 2 air exhaust ducts are replaced.

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

Eurocopter France: Docket No. 2003-SW-29-AD.

Applicability: Model EC 130 B4 helicopters with an optional engine flushing system installed, and AS 350 B3 helicopters with an optional engine flushing system installed and modified in accordance with MOD 073098, certificated in any category.

Compliance: Required within 10 hours time-in-service, unless accomplished previously.

To detect chafing wear of the air exhaust duct and the fuel transfer line, which could result in a hole in the fuel transfer line, fuel leaking into the engine compartment and creating a fire hazard that could lead to a fire and a subsequent forced landing, accomplish the following:

(a) Inspect the fuel transfer line located between the bleed valve of the engine starting system and the engine fuel filter for chafing in the interference areas in accordance with the Operational Procedure, paragraph 2.B.1., of Eurocopter Alert Service Bulletin (ASB) No. 71A001, dated May 12, 2003, for Model EC 130 B4 helicopters, or Eurocopter ASB No. 71.00.16, dated May 12, 2003, for Model AS 350 B3 helicopters.

(1) If the depth of the deepest wear mark is less than or equal to 0.05 mm (0.002 in), apply the maintenance procedure stated in the Engine Maintenance Manual.

(2) If the depth of the deepest wear mark is more than 0.05 mm (0.002 in) and less than or equal to 0.2 mm (0.008 in), replace the fuel transfer line within the next 50 hours TIS or within one month, whichever occurs first.

(3) If the depth of the deepest wear mark is more than 0.2 mm (0.008 in), replace the fuel transfer line before further flight.

(b) Inspect the air exhaust duct located between the bleed valve of the engine starting system and the engine fuel filter for a hole in the interference areas in accordance with the Operational Procedure, paragraph 2.B.1., of Eurocopter ASB No. 71A001, dated May 12, 2003, for Model EC 130 B4 helicopters, or Eurocopter ASB No. 71.00.16, dated May 12, 2003, for Model AS 350 B3 helicopters. If there is a hole in the air exhaust duct, replace the air exhaust duct within one month or before performing any engine flushing operation, whichever occurs first.

(c) Measure the clearances between the fuel transfer line and the air exhaust duct located between the bleed valve of the engine starting system and the engine fuel filter in the interference areas in accordance with the Operational Procedure, paragraph 2.B.1., of Eurocopter ASB No. 71A001, dated May 12, 2003, for Model EC 130 B4 helicopters, or Eurocopter ASB No. 71.00.16, dated May 12, 2003, for Model AS 350 B3 helicopters. If the clearance is less than 20 mm (0.8 in) in interference Area A or less than 12 mm (0.5 in) in interference Area B, reposition the air exhaust duct in accordance with the Operational Procedure, paragraph 2.B.2., of Eurocopter ASB No. 71A001, dated May 12, 2003, for Model EC 130 B4 helicopters, or Eurocopter ASB No. 71.00.16, dated May 12, 2003, for Model AS 350 B3 helicopters.

(d) To request a different method of compliance or a different compliance time for this AD, follow the procedures in 14 CFR 39.19. Contact the Manager, Safety Management Office, Rotorcraft Directorate, FAA, for information about previously approved alternative methods of compliance.

Note: The subject of this AD is addressed in Direction Generale De L'Aviation Civile (France) AD 2003-208(A) and AD 2003-209(A), both dated May 28, 2003.

Issued in Fort Worth, Texas, on December 31, 2003.
Kim Smith,
Acting Manager, Rotorcraft Directorate, Aircraft Certification Service.

[FR Doc. 04-370 Filed 1-7-04; 8:45 am]

BILLING CODE 4910-13-P